DEPARTMENT OF HOMELAND SECURITY

Transportation Security Administration

RIN 1652-ZA01

Security Requirements for Aircraft Operators Certificated Pursuant to 14 CFR Part 125

AGENCY: Transportation Security Administration (TSA), DHS.

ACTION: Notice.

SUMMARY: TSA is providing notice that, pursuant to its authority under 49 Code of Federal Regulation (CFR) part 1550, we are requiring aircraft operators using aircraft with a maximum certificated takeoff weight (MTOW) over 12,500 pounds, that are certificated by the Federal Aviation Administration (FAA) under 14 CFR part 125 and that are not currently operating under a TSA security program, to meet the requirements of 49 CFR 1544.101(e) or (f) as specified in this notice. TSA has issued this requirement to respond to vulnerabilities in aviation security.

DATES: Effective November 18, 2004.

FOR FURTHER INFORMATION CONTACT: David Bernier, TSA-7, Director of Air Carrier Inspections, Aviation Regulation and Inspection Division, Office of Aviation Operations, Transportation Security Administration HQ, 11th Floor, East Building, 601 South 12th Street, Arlington, VA 22202-4220; telephone (571) 227-2200; facsimile (703) 603-0414; e-mail aircarrierinspection@tsa.dot.gov.

SUPPLEMENTARY INFORMATION: All aircraft operators that are not otherwise regulated under title 49 CFR and that are certificated by the FAA under 14 CFR part 125 must comply with the security requirements contained in § 1544.101 (e) or (f) of title 49 as explained below. TSA is issuing this notice pursuant to 49 CFR 1550.7 in response to vulnerabilities in civil aviation security.

The U.S. Intelligence Community continues to receive and evaluate a high volume of reporting indicating possible threats against U.S. interests. This reporting, combined with recent terrorist attacks, has created an atmosphere of concern. While the ability to conduct multiple, near simultaneous attacks against several targets is not new for such terrorist groups as al-Qa'ida, aircraft that are not required to comply with TSA's security regulations provide an attractive target for terrorist organizations attempting to evade aviation security measures currently in place. The Department of Homeland Security remains concerned about al-Qa'ida's continued interest in aviation to carry out attacks on transportation and supporting infrastructure. In recognition of the current threat environment, TSA has made a determination that these circumstances require immediate action to ensure safety in air transportation.

Under 49 CFR 1550.7, each aircraft operation that is certificated by the FAA under part 125 and does not currently comply with a security program under 49 CFR part 1544 in an aircraft with a MTOW of more than 12,500 pounds, must conduct a search of the aircraft before departure and screen passengers, crew members and other persons, and all accessible property before boarding in accordance with security standards and procedures approved by TSA. TSA will require that for all-cargo operations conducted in an aircraft with a MTOW of more than 12,500 pounds and passenger operations conducted in an aircraft with a MTOW of more than 12,500 pounds and up to and including 45,500 kg (100,309.3 pounds), which are not currently operating under a TSA security program, such procedures and requirements as contained in 49 CFR 1544.101(e) and related security directives must be implemented. The requirements include, without limitation, a security program that provides for the security of persons and property traveling on flights, designation of an Aircraft Operator Security Coordinator, verification of the identity of flight crew members, security training, and procedures to respond to certain threats.

TSA will require that for all passenger operations with a MTOW greater than 45,500 kg (100,309.3 pounds) or with a passenger seating configuration of 61 or more, the security procedures must include the requirements listed in 49 CFR 1544.101(f) and related security directives. In addition to the requirements listed above, these operations must also screen individuals and their accessible property and provide for the use of metal detection devices and x-ray systems.

The size of the aircraft operating under part 125 certification, the number of passengers traveling on such aircraft, and the amount of cargo transported pose a significant threat to aviation security and require the application of security measures to these operations. Of particular concern to aviation security are part 125 operators that are functioning as private travel clubs. Such clubs, which are advertised on the Internet, solicit members who, after payment of initiation and membership fees, are able to purchase tour packages. These clubs transport members and their baggage all over the world without the security measures required by TSA. Given this period of heightened security concern, it is critical that such operations are in compliance with TSA's security procedures and requirements.

TSA will assist any aircraft operator affected by this notice. The specific security programs and related security directives may be obtained by contacting David Bernier at the Transportation Security Administration: e-mail aircarrierinspection@tsa.dot.gov, telephone (571) 227-2200, or facsimile (703) 603-0414. Affected aircraft operators should notify TSA of any questions or issues regarding the implementation of these requirements as soon as practicable.

Issued in Arlington, Virginia, on October 12, 2004.
David M. Stone,
Assistant Secretary.

[FR Doc. 04-23390 Filed 10-18-04; 8:45 am]

BILLING CODE 4910-62-P